DEPARTMENT OF DEFENSE

GENERAL SERVICES ADMINISTRATION

NATIONAL AERONAUTICS AND SPACE ADMINISTRATION

48 CFR Chapter 1

[FAR Case 2021-016, Docket No. FAR-2021-0016, Sequence No. 1]

RIN 9000-AO33

Federal Acquisition Regulation: Minimizing the Risk of Climate Change in Federal Acquisitions

AGENCY: Department of Defense (DoD), General Services Administration (GSA), and National Aeronautics and Space Administration (NASA).

ACTION: Advance notice of proposed rulemaking; extension of comment period.

SUMMARY: The Federal Acquisition Regulatory Council published an advance notice of proposed rulemaking on October 15, 2021, seeking public input on a potential amendment to the Federal Acquisition Regulation (FAR) to ensure that major Federal agency procurements minimize the risk of climate change. The deadline for submitting comments is being extended from December 14, 2021, to January 13, 2022, to provide additional time for interested parties to provide inputs.

DATES: For the advance notice of proposed rulemaking published on October 15, 2021 (86 FR 57404), submit comments on or before January 13, 2022.

ADDRESSES: Submit comments in response to FAR Case 2021-016 to the Federal eRulemaking portal at https://www.regulations.gov by searching for “FAR Case 2021-016”. Select the link “Comment Now” that corresponds with “FAR Case 2021-016”. Follow the instructions provided on the “Comment Now” screen. Please include your name, company name (if any), and “FAR Case 2021-016” on your attached document. If your comment cannot be submitted using https://www.regulations.gov, call or email the points of contact in the FOR FURTHER INFORMATION CONTACT section of this document for alternate instructions.

Instructions: Please submit comments only and cite “FAR Case 2021-016” in all correspondence related to this case. Comments received generally will be posted without change to https://www.regulations.gov, including any personal and/or business confidential information provided. To confirm receipt of your comment(s), please check https://www.regulations.gov, approximately two to three days after submission to verify posting.

FOR FURTHER INFORMATION CONTACT: Ms. Jennifer Hawes, Procurement Analyst, at 202-969-7386 or by email at jennifer.hawes@gsa.gov, for clarification of content. For information pertaining to status or publication schedules, contact the Regulatory Secretariat Division at 202-501-4755 or GSARegSec@gsa.gov. Please cite FAR Case 2021-016.

SUPPLEMENTARY INFORMATION:

I. Background

On October 15, 2021, the Federal Acquisition Regulatory Council published an advance notice of proposed rulemaking (ANPR) in the Federal Register at 86 FR 57404 seeking public input on a potential FAR amendment to implement section 5(b)(ii) of Executive Order 14030, Climate-Related Financial Risk. The comment period is extended to January 13, 2022, to allow additional time for interested parties to submit comments in response to the questions posed in the ANPR.

William F. Clark,
Director, Office of Government-wide Acquisition Policy, Office of Acquisition Policy, Office of Government-wide Policy.

[FR Doc. 2021-26243 Filed 12-6-21; 8:45 am]

BILLING CODE 6820-EP-P